DEPARTMENT OF TRANSPORTATION

Pipeline and Hazardous Materials Safety Administration

Office of Hazardous Materials Safety; Actions on Special Permit Applications

AGENCY: Pipeline and Hazardous Materials Safety Administration (PHMSA), DOT.

ACTION: Notice of actions on special permit applications.

SUMMARY: In accordance with the procedures governing the application for, and the processing of, special permits from the Department of Transportation's Hazardous Material Regulations (49 CFR Part 107, Subpart B), notice is hereby given of the actions on special permits applications in (January to June 2010). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on August 18, 2010.
Donald Burger,
Chief, Special Permits and Approvals Branch.

MODIFICATION SPECIAL PERMIT GRANTED
S.P. No. | Applicant | Regulation(s) | Nature of special permit thereof
MODIFICATION SPECIAL PERMIT GRANTED
14282-M | T.F. Boyle Transportation, Inc. (Boyle Transportation) Billerica, MA | 49 CFR 173 .835(g) | To modify the special permit to authorize an additional four Class 1 hazardous materials.
13057-M | MINTEQ International Inc. Canaan, CT | 49 CFR 172 Subparts D, E and F; 173.24(c) Subparts E and F of Part 173 | To modify the special permit by the deleting of three hazardous materials from paragraph 6; change the length of continuous rollor coil from 10,000 meters to 12,500 meters; and authorize 12,500 meters; and authorize steel pallets in addition to wooden pallets in paragraph 7.a.(5).
9880-M | G.E. Reuter-Stokes, Inc., Twinsburg, OH | 49 CFR 173.302; 175.3; Part 172 Subpart E and F | To modify the special permit to authorize one drop test instead of 5 drop tests every 24 months and in section 8.e. add “e.e. radiation sensor” after “Each packaging manufactured”.
11911-M | Transfer Flow, Inc., Chico, CA | 49 CFR 178.700 thru 178.8 19 | To modify the special permit to authorize new part numbers for tank drawings; to add several new refueling systems; to add two new fuel caps; and to add several new fuel tanks to the special permit.
14656-M | PurePak Technology Corporation, Chandler, AZ | 49 CFR 173.158 (f)(3) | To modify the special permit to authorize the use of a 38 mm closure in addition to the currently authorized 45 mm tamper evident closure.
14772-M | GE Hitachi Nuclear, Energy Americas, LLC, Sunsol, CA | 49 CFR 173.416 | To modify the special permit to authorize an increase of the total number of authorized shipments from eight (8) to twenty (20) shipments.
14372-M | Garrett Aviation Services LLC dba Standard Aero, Augusta, GA | 49 CFR 173.301 (a)(1); 173.304 | To modify the special permit to add an additional type certificate to 7.b.(2) and to allow production markings to be obliterated as part of the retest.
11598-M | Metalcraft, Inc., Baltimore, MD | 49 CFR 175.3; 180.209 | To modify the special permit to authorize an additional Division 2.2 hazardous material.
14815-M | Air Products and Chemicals, Inc., Allentown, PA | 49 CFR 173.315 | To reissue the special permit originally issued on an emergency basis to authorize transportation in commerce of nitrous oxide, refrigerated liquid in fifteen non-DOT specification portable tanks that were manufactured to the EN 13530 standard instead of the ASMIE Code Section VIII.
10326-M | Honeywell International, Inc., Morristown, NJ | 49 CFR 178.44; 173.302(a)(2); 175.3 | To modify the special permit to authorize the plating on the EED Cartridge connector pins to be gold and to add drawing 3258082-2 to the special permit.
12087-M | LND, Inc., Oceanside, NY | 49 CFR 172.101, (Col. 9); 173.306; 175.3 | To modify the special permit to decrease the maximum allowable pressure from 25 PSIG to 5 PSIG; to add two new design types; and allow the maximum volume of the radiation sensor to be a function of the fill pressure not to exceed 57 grams of BF3 per sensor.
14466-M | Alaska Central Express, Inc., Anchorage, AK | 49 CFR 172.101 Column (9B) | To modify the special permit to authorize an additional Division 1.1D hazardous material.
14925-M | Warbelow's Air Ventures, Inc., Fairbanks, AK | 49 CFR 173.302(1) | To modify the special permit to extend the date in paragraph 11(b) to September 30, 2010.
14844-M | Northern Air Cargo, Anchorage, AK | 49 CFR 173.302(f) | To modify the special permit to authorize cylinders of less than 116 cubic feet to be used after June 30, 2010, to include other oxidizing gases and that the human and veterinary use only provision be removed.
14922-M | Peninsula Airways Inc. (PenAir) Anchorage, AK | 49 CFR 173.302(1) | To modify the special permit to extend the date in paragraph 11(b) to September 30, 2010.
14923-M | Spernak Airways, Anchorage, AK | 49 CFR 173.302(f) | To modify the special permit to extend the date in paragraph 11(b) to September 30, 2010.
14906-M | Arctic Transportation Services, Anchorage, AK | 49 CFR 173.302(f) | To modify the special permit to extend the date in paragraph 11(b) to September 30, 2010.
14931-M | Tucker Aviation Inc., Dillingham, AK | 49 CFR 173.302(f) | To modify the special permit to extend the date in paragraph 11(b) to September 30, 2010.
14904-M | Tatonduk Outfitters Limited dba Everts Air Alaska, Fairbanks, AK | 49 CFR 173.302(f) | To modify the special permit to extend the date in paragraph 11(b) to September 30, 2010.
14974-M | Continental Batteries, Dallas, TX | 49 CFR 173.159 (e)(4) | To reissue the special permit originally issued on an emergency basis to authorize transportation in commerce of lead batteries from more than one shipper without voiding the exception in § 173.159(e).

S.P. No. | Applicant | Regulation(s) | Nature of special permit thereof
NEW SPECIAL PERMIT GRANTED
14967-N | GFS Chemicals, Inc., Columbus, OH | 49 CFR 171-180 | To authorize the one-time transportation in commerce of certain hazardous materials to a new site to be transported as essentially unregulated (mode 1).
14966-N | Vulcore Industrial LLC, Fort Wayne, IN | 49 CFR 173.302 and 180 .205 | To authorize the manufacture, marking, sale and use of non-DOT specification cylinders for the transportation of compressed air for use in self contained breathing apparatus (modes 1, 2, 3, 4, 5).
14969-N | Pace Air Freight, Inc., Plainfield, IN | 49 CFR 173.196 and 178.609 | To authorize the one-way transportation in commerce of certain Category A infectious substances in alternative packaging (freezers) by motor vehicle (mode 1).
14971-N | Northrop Grumman Corporation, Baltimore, MD | 49 CFR 173.24 | To allow the controlled release of nitrogen and air from a cylinder during transportation to maintain an inert atmosphere in a shipping container to protect the electronic sensors for a satellite (mode 1).
14974-N | Continental Batteries, Dallas, TX | 49 CFR 173.159 (e)(4) | To authorize the transportation in commerce of lead batteries from more than one shipper without voiding the exception in § 173.159(e) (mode 1).
14978-N | Air Products and Chemicals, Inc., Allentown, PA | 49 CFR 173.181 | To authorize the transportation in commerce of pyrophoric liquids in inner metal containers (bubblers) with openings greater than 25mm (1 inch) which are engineered to specific electronics applications that require a larger opening (modes 1, 3).
14981-N | Eclipse Aerospace, Inc. (EAI), Albuquerque, NM | 49 CFR 173.309(b) | To authorize the manufacture, marking, sale and use of non-DOT specification cylinders for use as fire extinguishers (modes 1, 2, 3, 4, 5).
14991-N | Intex Recreation Corp., Long Beach, CA | 49 CFR 173.150 and 172.3 16 | To authorize the transportation in commerce of above ground swimming pool kits containing one .2 ounce tube of flammable adhesive each without being marked ORM-D and exceeding the 66 pound weight restriction (mode 1).
14995-N | Grasshopper Aviation, LLC, Wasilla, AK | 49 CFR 172.101 | To authorize the Column (9B) transportation in commerce of certain Class I explosive materials which are forbidden for transportation by air, to be transported by cargo aircraft within the State of Alaska when other means of transportation are impracticable or not available (mode 4).
15005-N | Coastal Helicopters, Inc., Juneau, AK | 49 CFR 172.101 Column (9B), 172.204(c)(3), 173.27(b)(2), 175.30(a)(1) | To authorize the transportation in commerce of propane in DOT Specification 4B240, 4BA240, 4BW240 cylinders via helicopter utilizing sling load and 175.75 operations within the state of Alaska without being subject to hazard communication requirements, quantity limitations and certain loading and stowage requirements (mode 4).

S.P No. | Applicant | Regulation(s) | Nature of special permit thereof
EMERGENCY SPECIAL PERMIT GRANTED
14927-M | ERA Aviation, Anchorage, AK | 49 CFR 173.302(f) | To extend the temporary time limit of June 30 to September 30 to comply with new oxygen cylinder packaging requirements (modes 4, 5).
14909-M | Lake Clark Air, Inc., Port Alsworth, AK | 49 CFR 173.304(f) | To modify the special permit to extend the date in paragraph 11(b) to September 30, 2010 (modes 4, 5).
14908-M | Conocophillips Alaska, Inc., Anchorage, AK | 49 CFR 173.302(f) | To modify the special permit to authorize the extension of paragraph 11(b) to September 30, 2010.
14926-M | Lynden Air Cargo, Anchorage, AK | 49 CFR 173.302(f) | To modify the special permit to authorize the extension of paragraph 11(b) to September 30, 2010 (modes 4, 5).
14905-M | Frontier Flying Service, Inc., Fairbanks, AK | 49 CFR 173.302(f) | To modify the special permit to authorize the extension of paragraph 11(b) to September 30, 2010 (modes 4, 5).
14903-M | Hageland Aviation Services, Inc., Anchorage, AK | 49 CFR 173.302(f) | To modify the special permit to authorize the extension of paragraph 11(b) to September 30, 2010 (modes 4, 5).
14860-M | Alaska Airlines, Seattle, WA | 49 CFR 173.302(f) | To modify the special permit to authorize the extension of paragraph 11(b) to September 30, 2010 (modes 4, 5).
14984-N | Air Products and Chemicals, Inc., Allentown, PA | 49 CFR 171.23(a)(1) and (3) | To authorize the transportation in commerce of certain non-DOT specification foreign cylinders containing Dichlorosilane by motor vehicle and cargo vessel (modes 1, 3).
14983-N | Teck Alaska, Inc. Red Dog Operations, Anchorage, AK | 49 CFR 49 CFR 172.101 Column 9(B) | To authorize the transportation in commerce of Xanthates, which exceeds the quantity limitations specified for transportation by cargo aircraft and to add Comustible Liquid n.o.s. (Mineral Oil, Kerosene) N/A UN 1993 PG III (modes 1, 4).
14961-N | Lynden Air Cargo, Anchorage, AK | 49 CFR 171.24(d)(2) | To authorize the air transportation in commerce of cylinders of compressed oxygen without rigid outer packaging to Haiti earthquake disaster areas (mode 4).
14962-N | Northern Air Cargo, Anchorage, AK | 49 CFR
14963-N | National Air Cargo Group dba National Airlines, Ypsilanti, MI | 49 CFR 172.101 Column (9B), 172.204(c)(3), 173.27(b)(2) and (b)(3) 175.30(a)(1) | To authorize the one-time, one-way transportation in commerce of certain explosives that are and forbidden for transportation or the quantity limits are exceeded for transportation by cargo only aircraft (mode 4).
14964-N | Korean Air Lines Co., Ltd. (KAL), Los Angeles, CA | 49 CFR 172.101 Column (9B), 172.204(c)(3), 173.27, 175.30(a)(1), 175.320 | To authorize the air transportation in commerce of certain explosives which are forbidden for shipment by cargo-only aircraft (mode 4).
14973-N | NEC Corporation, Fuchu, Tokyo 183-8501 | 49 CFR 173.304a, 173301, 172.101 Table Column (9B) | To authorize the transportation in commerce of anhydrous ammonia in non-DOT specification packaging (heat pipes) for installation in a satellite (modes 1, 4).
14975-N | Atlas Air, Inc., Miami, FL | 49 CFR | To authorize the one-time transportation in commerce of certain explosives and Division 4.2 hazardous materials that are forbidden for transportation or the quantity limits are exceeded for transportation by cargo only aircraft (mode 4).
14976-N | Air Transport International, L.L.C., Little Rock, AR | 49 CFR | To authorize the one-time transportation in commerce of certain explosives and Division 4.2 hazardous materials that are forbidden for transportation or the quantity limits are exceeded for transportation by cargo only aircraft (mode 4).
14993-N | Ball Corporation, Elgin, FL | 49 CFR 172.301(c) | To authorize the transportation in commerce of approximately 173,160 cans containing whipped cream under pressure that were manufactured under DOT-SP 7951 but were inadvertently marked “DOT-SP 2951.” (mode 1).
14996-N | Skydance Helicopters of Northern Nevada, Inc., Minden, NV | 49 CFR 172.101 Column (9B), 172.204(c)(3), 173.27(b)(2) and 175.30(a)(1) | To authorize the transportation in commerce of certain forbidden explosives in sling load operations in remote areas of the U.S. without being subject to hazard communication requirements, quantity limitations and certain loading and stowage requirements (mode 4).
15006-N | Alpine Air Alaska, Inc., Girdwood, AK | 49 CFR 172.101 Column (9B) | To authorize the transportation in commerce of certain Class 1 explosive materials which are forbidden for transportation by air, to be transported by cargo aircraft within the State of Alaska when other means of transportation are impracticable or not available (mode 4).
15014-N | Air Logistics of Alaska Inc., Fairbanks, AK | 49 CFR172.101 Column (9B) | To authorize the transportation in commerce of certain Class 1 explosive materials which are forbidden for transportation by air, to be transported by cargo aircraft within the State of Alaska when other means of transportation are impracticable or not available (mode 4).
15015-N | Wood Group Production Services, Sheridan, WY | 49 CFR 172.101 Column (9B) | To authorize the one-time, one-way transportation in commerce of 11 pounds of Division 1.3C explosives that is forbidden for air transportation (mode 4).
15051-N | High Five Fireworks, Inc., Junction City, OR | 49 CFR 173.56 | To authorize the one-time, one-way transportation in commerce of certain unapproved fireworks to a warehouse (mode 1).

S.P. No. | Applicant | Regulation(s) | Nature of special permit thereof
MODIFICATION SPECIAL PERMIT WITHDRAWN
10266-M | LDH Energy Pipeline LP (Former Grantee: Louis Dreyfus Pipeline LP) Houston, TX | 49 CFR 173.119 | To modify the special permit to authorize the deletion of 6 hazardous materials in paragraph 6 of special permit; delete a truck; add a new truck and a new truck drawing to the special permit.
11447-M | SAES Pure Gas, Inc., San Louis Obispo, CA | 49 CFR 173.187 | To modify the special permit to increase the number of pressure vessels from six to eight.
11489-M | TRW, Washington, MI | 49 CFR 172.320; 173.56(b) | To modify the special permit to authorize an additional Division 1.4C explosive article.
13998-M | Digital Wave Corporation, Centennial, CO | 49 CFR 172.203(a); 172.302a(b)(2),(4)(5); 180.205(f)(g); 180.209(a), (b)(1)(iv) | To modify the special permit to authorize the use of tare weight to identify DOT 3AI3AA cylinders.
14206-M | Digital Wave Corporation, Englewood, CO | 49 CFR 180.205 | To modify the special permit to authorize the use of tare weight to identify DOT 3A/3AA cylinders.
14867-M | GTM Manufacturing, LLC, Amarillo, TX | 49 CFR 173.302a, 173.304a | To modify the special permit to authorize cargo vessel and rail freight as additional modes of transportation and to add Division 2.1 and 2.2 hazardous materials to the special permit.

S.P. No. | Applicant | Regulation(s) | Nature of special permit thereof
NEW SPECIAL PERMIT WITHDRAWN
14970-N | AmeriGlobe LLC, Lafayette, LA | 49 CFR 178.700 | To authorize the manufacture, marking, sale and use of flexible intermediate bulk containers that contain a net mass of less than 400 kg (modes 1, 2, 3, 4, 5).
14987-N | Line Pressure, Inc., Englewood, CO | 49 CFR 172.407 | To authorize the transportation in commerce of cylinders containing medical gas with modified hazard warning labels (modes 1, 2).
14986-N | National Aeronautics and Space Administration (NASA) Kennedy Space Center, FL | 49 CFR 173.302a | To authorize the transportation in commerce of nitrogen, compressed in alternative packaging (a Flex Hose Rotary Coupler Integrated assembly) (modes 1, 4).
14990-N | Manufacturing Technologies Incorporated, Albuquerque, NM | 49 CFR 178.65 | To authorize the manufacture, marking, sale and use of non-DOT specification cylinders conforming to the DOT Specification 39 except they are manufactured from stainless steel (modes 1, 2, 3, 4, 5).
15000-N | FIBA Technologies, Inc., Millbury, MA | 49 CFR 180.205(f) and (g) and 180.209(a) | To authorize the transportation in commerce of certain hazardous materials in DOT Specification 3AL cylinders manufactured from aluminum alloy 6061-T6 that are requalified every ten years rather than every five years using 100% ultrasonic examination (modes 1, 2, 3, 4, 5).

S.P. No. | Applicant | Regulation(s) | Nature of special permit thereof
EMERGENCY SPECIAL PERMIT WITHDRAWN
14998-N | Daniels Sharpsmart, Inc., Baltimore, MD | 49 CFR 173.197 | To authorize the transportation in commerce of regulated medical waste in 450 gallon Gaylord boxes by motor vehicle (mode I).

Denied
11761-M | Request by Eli Lilly & Company, Clinton, IN, August 02, 2010. To modify the special permit to add an additional Class 8 hazardous material.
14979-N | Request by M & N Aviation, Inc., Carolina, March 31, 2010. To authorize the air transportation in commerce of certain explosives which are forbidden or exceed quantity limits for shipment by cargo-only aircraft.

S.P No. | Applicant | Regulation(s) | Nature of special permit thereof
14429-M | Schering-Plough, Summit, NJ | 49 CFR 173.306(a)(3)(v) | To modify the special permit to authorize an alternative testing method to the hot water bath.
14968-N | Zubiate Machine Works LLC, Roosevelt, UT | 49 CFR 177.834 | To authorize the manufacture, mark and sale of refueling tanks as intermediate bulk containers for use in transporting various Class 3 hazardous materials and discharging without being removed from the motor vehicle (mode 1).
14982-N | StarLite Propane Gas Corporation, Bay Shore, NY | 49 CFR
15009-N | R M A Lumber Inc., Dill Wyn, VA | 49 CFR 107 | Transport Cargo tank off Road Diesel Fuel on lowboy (mode 1).
15011-N | SolvChem, Pearland, TX | 49 CFR 173.24(g) 49 CFR 173.24a(b)4 49 CFR parts 106, 107, 171-180 | SP-11836 (mode 1).
15016-N | Ashland Inc., Pittsburgh, PA | 49 CFR 177.834(i)(4) | 49 CFR 177.834(i)(4) requires that the qulaified person is authorized to move the cargo tank, and he has the means to do so. We are requesting relief from this part of the regulation. Our safety policy in the plant requires that in the event of an emergency the transfer is shut down and all personnel must report to an assesmbly point for accountability. All motor vehicles are shut down and not permitted to move which become an ignition source. (mode 1).
15017-N | Ashland Inc., Pittsburgh, PA | 49 CFR 177.834(i)(4) | 49 CFR 177.834(i)(4) requires that the qualified person is authorized to move the cargo tank, and he has the means to do so. We are requesting relief from this part of the regulation. Our safety policy in the plant requires that in the event of an emergency the transfer is shut down and all personnel must report to an assesmbly point for accountability. All motor vehicles are shut down and not permitted to move which become an ignition source (mode 1).
15018-N | Modern Gas, Greenwich, CT | 49 CFR 173.315 | Need to transport 500 gallon above ground propane storage tank with 50% product in it because we are unable to remove existing product (mode 1).
15020-N | ChemQuest, Inc., Pasadena, TX | 49 CFR 107.109 | To obtain special permit DOT-SP 11836 for Aqua Ammonia Drums (mode 1).
15021-N | New York & Atlantic Railway, Ridgewood, NY | 49 CFR SP7616 | Appling for SP7616 (mode 2).
15024-N | New Hampshire Northcoast Corp., Ossipee, NH | 49 CFR 107.107 | Party status to DOT-SP7616 (mode 2).
15025-N | Burlington Containers, Brooklyn, NY | 49 CFR 173.226 and 173.227 | To authorize the transportation in commerce of certain materials toxic by inhalation, Hazard Zone A and B, in alternative packaging (mode 1).
15032-N | GE Transportation, ERIE, PA | 49 CFR § 173.189 | The United States recently submitted a UN paper (ST/SG/AC.10/c.3/2010/30) requesting a change to Special Provision 239 of the UN Model Regulations to be considered at the upcoming meeting in Geneva June 21-30 2010. This change would allow additional types of sodium battery chemistries to be shipped under UN3292, Batteries, containing sodium. Currently the DOT regulations in 49 CFR § 173.189, ICAO Special Provision A94 and Special Provision 239 of the UN Model Regulations are specific to batteries with chemistries containing sodium, sulphur, and polysulfides only. These regulations do not make allowance for newer battery chemistry technologies to be shipped, such as those containing a corrosive electrolyte consisting of sodium tetrachloroaluminate (a corrosive solid, PGIII) as the secondary electrolyte. We are requesting a special permit to allow batteries containing sodium tetrachloroaluminate (a corrosive solid, PGIII) to be shipped under the DOT regulations via ground, air, and water. (modes 1, 2, 3, 4).
15034-N | Saima Avandero, Fiumicino (Rome), It | 49 CFR—Special Provision USG-05 | Requesting the permit for carrying explosive on a cargo aircraft on behalf of the Italian Ministry of Defence for the “Red Flag” Exercise (mode 4).
15039-N | Boehike Bottled Gas Corp., Cedarburg, WI | 49 CFR Parts 106, 107 and 171-180 | Applying for DOT-SP 13341 for Boehlke Bottled Gas Corp. Member of NPGA (mode 1).
15049-N | Hernco Fabrication & Services, Midland, TX | 49 CFR—We are requesting that Special Permit SP-13027 be renewed. The current form of this special permit is accurate and unchanged. | We are requesting that Special Permit SP-13027 be renewed.
15057-N | Department of Forestry and Fire Protection, McClellan, CA | 49 CFR Parts 106, 107, 171-180 | Renewal for DOT-SP 9198 (mode 4).
15064-N | Ouachita Railroad, El Dorado, AR | 49 CFR 107.109 | Requesting a DOT-SP 7616 for the Ouachita Railroad (mode 2).
14958-N |  | 49 CFR
15008-N | NOVEL Chemical Solutions, Crete, NE | 49 CFR 172.301 | NCS need the DOT-SP 172.301 for shipping nonbulk packages of hazardous good (research chemicals) to pharmaceutical companies. (modes 1, 3, 4, 5).
15035-N | Drexel Chemical, Memphis, TN | 49 CFR 107.109 | Special Permit to carry Aluminum phosphide in limited Quantities by private motor vehicles without a placarded.

[FR Doc. 2010-20910 Filed 8-24-10; 8:45 am]

BILLING CODE 4909-60-M